DEPARTMENT OF TRANSPORTATION

Federal Highway Administration

[Docket No. FHWA-2002-12566]

Notice of Request for Clearance of a New Information Collection: Effectiveness of Design-Build Contracting Procedures

AGENCY: Federal Highway Administration (FHWA), DOT.

ACTION: Notice and request for comments.

SUMMARY: In accordance with the requirements of section 3506(c)(2)(A) of the Paperwork Reduction Act of 1995, this notice announces the intention of the FHWA to request the Office of Management and Budget's (OMB) approval for a new information collection involving responses to a questionnaire concerning design-build projects. The information to be collected will be used to analyze the effectiveness of design-build contracting procedures.

DATES: Comments must be submitted on or before September 9, 2002.

ADDRESSES: All signed, written comments should refer to the docket number that appears in the heading of this document and must be submitted to the Docket Clerk, U.S. DOT Dockets, Room PL-401, 400 Seventh Street, SW., Washington, DC 20590-0001. All comments received will be available for examination at the above address between 10 a.m. and 5 p.m., e.t., Monday through Friday, except Federal holidays. Those desiring notification of receipt of comments must include a self-addressed stamped envelope or postcard.

FOR FURTHER INFORMATION CONTACT: Mr. Gerald Yakowenko, (202) 366-1562, Office of Program Administration, Federal Highway Administration, Department of Transportation, 400 Seventh Street, S.W., Washington, DC 20590. Office hours are from 7:30 a.m. to 5:00 p.m., e.t., Monday through Friday, except Federal holidays.

SUPPLEMENTARY INFORMATION: Title: Effectiveness of Design-Build Contracting Procedures.

Background: Section 1307 of the Transportation Equity Act for the 21st Century (TEA-21, Public Law 105-178, 112 Stat. 107 (1998)) amends 23 U.S.C. 112 to allow the design-build contracting method after the FHWA promulgates a regulation prescribing the Secretary's approval criteria and procedures on qualified projects. Section 1307(f) of the TEA-21 also requires the FHWA to report to Congress on the effectiveness of design-build contracting by June 9, 2003. The report must address:

(a) An assessment of the effect of design-build contracting on project quality, project cost, and timeliness of project delivery;

(b) Recommendations on the appropriate level of design for design-build procurements;

(c) An assessment of the impact of design-build contracting on small businesses;

(d) Assessment of the subjectivity used in design-build contracting; and

(e) Such recommendations concerning design-build contracting procedures as the Secretary determines to be appropriate.

Respondents: The FHWA will survey and interview an appropriate sample of contracting agencies and industry representatives who have experience with the design-build project delivery method. The respondents to the survey will be approximately 25 State Departments of Transportation, several local public agencies and a limited number of industry representatives who have experience with the design-build project delivery method.

Estimated Average Burden Per Response: The estimated average burden per response is two hours.

Estimated Total Annual Burden: The estimated total annual burden for all respondents is 200 hours.

Frequency: This is a one-time survey.

Public Comments Invited: Interested parties are invited to send comments regarding any aspect of this information collection, including, but not limited to: (1) The necessity and utility of the information collection for the proper performance of the functions of the FHWA; (2) the accuracy of the estimated burden; (3) ways to enhance the quality, utility, and clarity of the collected information; and (4) ways to minimize the collection burden without reducing the quality of the collected information. Comments submitted in response to this notice will be summarized and/or included in the request for OMB's clearance of this information collection.

Electronic Access: Internet users can access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Transportation Equity Act for the 21st Century, (Public Law 105-178), section 1307 and 49 CFR 1.48.

Issued on: June 26, 2002.
James R. Kabel,
Chief, Management Programs and Analysis Division.

[FR Doc. 02-17312 Filed 7-9-02; 8:45 am]

BILLING CODE 4910-22-P